DEPARTMENT OF HEALTH AND HUMAN SERVICES

Administration for Community Living

Agency Information Collection Activities; Proposed Collection; Public Comment Request; Revision of a Currently Approved Information Collection (OMB Approval Number 0985-0048); State Grants for Assistive Technology Program State Plan for Assistive Technology

AGENCY: Administration for Community Living, Department of Health and Human Services.

ACTION: Notice.

SUMMARY: The Administration for Community Living (ACL) is announcing that the proposed collection of information listed above has been submitted to the Office of Management and Budget (OMB) for review and clearance as required under the Paperwork Reduction Act of 1995 (the PRA). This 30-day notice requests comments on the information collection requirements related to a proposed Revision of a Currently Approved Information Collection (ICR-Rev). The revision will allow ACL to continue to collect information necessary to determine grantee compliance with Section 4 of the Assistive Technology Act of 1998, as Amended (AT Act).

DATES: Submit written or electronic comments on the collection of information by January 3, 2018.

ADDRESSES: Submit written comments on the collection of information: by fax at (202) 395-5806 or by email to OIRA_submission@omb.eop.gov, Attn: OMB Desk Officer for ACL.

FOR FURTHER INFORMATION CONTACT: Robert Groenendaal at (202) 795-7356 or Robert.Groenendaal@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. The proposed data collection represents a revision of a currently approved collection (ICR-Rev). In order to comply with the above requirement, ACL is requesting approval of a revision of a previously approved collection, the State Grants for Assistive Technology Program State Plan for AT, formerly known as the 664 report (0985-0048).

The State Plan for AT is submitted every three years and updated annually by all State Grants for AT programs receiving formula funds under Section 4 of the Assistive Technology Act of 1998, as Amended (AT Act). The State Plan for AT is used by ACL to assess grantees' compliance with Section 4 of the AT Act and enables ACL to analyze qualitative and quantitative information to track performance outcomes and efficiency measures of the State Grants for AT programs; support budget requests; comply with the GPRA Modernization Act of 2010 (GPRAMA) reporting requirements; provide national benchmark information; and inform program development and management activities. The burden table below identifies the data collection activities for the instrument as well as the estimates for record keeping and entry of aggregate data. In addition to submitting a State Plan every three years, states and outlying areas are required to submit annual progress reports on their activities. The data required for these progress reports is specified in Section 4(f) of the AT Act. The State Grants for AT program conduct the following state-level and state leadership activities: device demonstration, device loans, device reutilization, state financing, training and technical assistance, public awareness, and information and referral.

Comments in Response to the 60-Day Federal Register Notice

A 60-day notice was published in the Federal Register in Vol. 82, No. 178, pg. 43379 on September 15th, 2017. ACL received one comment from the Association of Assistive Technology Act Programs (ATAP), which represents 54 State Grant for AT programs. The comment noted that the proposed changes to the currently approved information collection were developed with extensive input of those it directly impacts, the State AT Program grantees. The revision process began almost two years ago and grantees had multiple opportunities to discuss and make recommendations on the proposed changes, which were reviewed during numerous meetings with ATAP membership at national conferences and during online events. There is uniform support within the ATAP membership for the revisions.

Burden Estimates

The proposed State Plan for Assistive Technology Information Collection Program may be found on the ACL Web site at: https://www.acl.gov/about-acl/public-input.

The total estimated hour burden per respondent for the proposed State Plan for AT will decrease from the 74 hours per respondent estimated in FY 2015 to 73 hours estimated for FY 2018, an estimated reduction of one hour per respondent or 56 hours in total. The proposed State Plan for AT changes focus on a streamline of drop down choice lists in the current instrument. Actual expenditure data elements for state-level and state leadership tracking replaces the budget projections to provide more accurate fiscal data to ACL and to ensure compliance with AT Act requirements for expenditures. The proposed instrument simplifies the coordination and collaboration items to focus on activities conducted through a formal written agreement to ensure consistency and usefulness of data reported. The revised instrument aligns demographic data elements with the AT Annual Performance Report (APR), so that the data will be: Entered once, then only updated from that point on; used for both the State Plan and APR; updated quarterly with reminders; and used to populate the online State AT Program listing to ensure currency and accuracy. The reduction in burden is a result of a data collection workgroup composed of State AT program staff that met to suggest revisions to the current instrument. The workgroup solicited feedback from all of the grantees through face-to-face meetings and webinar presentations. The number of hours is multiplied by 56 AT State Grants programs, resulting in a total estimated hour burden of 4,088 hours.

Respondent/data collection activity | Number of respondents | Responses per respondent | Hours per response | Annual burden hours
State Plan for AT Annual Progress Report (AT APR) | 56 | 1 | 73.0 | 4,088

Dated: November 24, 2017.
Mary Lazare,
Principal Deputy Administrator.

[FR Doc. 2017-26018 Filed 12-1-17; 8:45 am]

BILLING CODE 4154-01-P